DEPARTMENT OF ENERGY

Federal Energy Regulatory Commission

Combined Notice of Filings #1

Take notice that the Commission received the following electric rate filings:

Docket Numbers: ER10-1511-008; ER10-2231-007.

Applicants: Louisville Gas & Electric Company, Kentucky Utilities Company.

Description: Triennial Market Power Update of the PPL Southeast Companies.

Filed Date: 6/30/20.

Accession Number: 20200630-5468.

Comments Due: 5 p.m. ET 8/29/20.

Docket Numbers: ER10-1987-004.

Applicants: Ontario Power Generation Energy Trading, Inc.

Description: Triennial Market Power Update for Southeast Region of Ontario Power Generation Energy Trading, Inc.

Filed Date: 6/30/20.

Accession Number: 20200630-5470.

Comments Due: 5 p.m. ET 8/29/20.

Docket Numbers: ER10-2042-035; ER10-1858-008; ER10-1862-029; ER10-1870-008; ER10-1889-008; ER10-1893-029; ER10-1895-008; ER10-1934-029; ER10-1938-030; ER10-1942-027; ER10-1944-008; ER10-2029-012; ER10-2036-011; ER10-2040-010; ER10-2041-010; ER10-2043-010; ER10-2044-010; ER10-2051-010; ER10-2985-033; ER10-3049-034; ER10-3051-034; ER10-3260-010; ER11-4369-014; ER13-1401-008; ER14-2931-008; ER16-2218-014; ER17-696-015; ER18-1321-003; ER20-1939-001.

Applicants: Calpine Energy Services, L.P., Bethpage Energy Center 3, LLC, Calpine Bethlehem, LLC, Calpine Construction Finance Company, L.P., Calpine Energy Solutions, LLC, Calpine Fore River Energy Center, LLC, Calpine Mid-Atlantic Generation, LLC, Calpine Mid-Atlantic Marketing, LLC, Calpine Mid Merit, LLC, Calpine Mid-Merit II, LLC, Calpine New Jersey Generation, LLC, Calpine Northeast Development, LLC, Calpine Power America—CA, LLC, Calpine Vineland Solar, LLC, CES Marketing IX, LLC, CES Marketing X, LLC, Champion Energy, LLC, Champion Energy Marketing LLC, Champion Energy Services, LLC, CPN Bethpage 3rd Turbine, Inc., Granite Ridge Energy, LLC, KIAC Partners, Nissequogue Cogen Partners, North American Power and Gas, LLC, North American Power Business, LLC, TBG Cogen Partners, Power Contract Financing, L.L.C., Westbrook Energy Center, LLC, Zion Energy LLC.

Description: Updated Market Power Analysis for Northeast Region of the Calpine Corporation indirect subsidiaries.

Filed Date: 6/30/20.

Accession Number: 20200630-5457.

Comments Due: 5 p.m. ET 8/29/20.

Docket Numbers: ER10-2133-022.

Applicants: Sheldon Energy LLC.

Description: Triennial Report Sheldon Energy LLC.

Filed Date: 6/30/20.

Accession Number: 20200630-5418.

Comments Due: 5 p.m. ET 8/29/20.

Docket Numbers: ER10-2487-006; ER15-2380-004.

Applicants: Pacific Summit Energy LLC, Willey Battery Utility, LLC.

Description: Triennial Market Based Rate Analysis for Northeast Region of Pacific Summit Energy LLC, et al.

Filed Date: 6/30/20.

Accession Number: 20200630-5444.

Comments Due: 5 p.m. ET 8/29/20.

Docket Numbers: ER10-2718-036; ER10-2719-036.

Applicants: Cogen Technologies Linden Venture, L.P., East Coast Power Linden Holding, L.L.C.

Description: Triennial Compliance Filing of Cogen Technologies Linden Venture, L.P.

Filed Date: 6/30/20.

Accession Number: 20200630-5455.

Comments Due: 5 p.m. ET 8/29/20.

Docket Numbers: ER10-2881-035; ER10-2882-036; ER10-2883-034; ER10-2884-034; ER16-2509-005; ER17-2400-006; ER17-2401-006; ER17-2403-006; ER17-2404-006.

Applicants: Alabama Power Company, Southern Power Company, Mississippi Power Company, Georgia Power Company, Rutherford Farm, LLC, SP Butler Solar, LLC, SP Decatur Parkway Solar, LLC, SP Pawpaw Solar, LLC, SP Sandhills Solar, LLC.

Description: Updated Market Power Analysis for the Southeast Region of Alabama Power Company, et al.

Filed Date: 6/30/20.

Accession Number: 20200630-5461.

Comments Due: 5 p.m. ET 8/29/20.

Docket Numbers: ER11-3872-023.

Applicants: Stony Creek Energy LLC.

Description: Triennial Report of Stony Creek Energy LLC.

Filed Date: 6/30/20.

Accession Number: 20200630-5419.

Comments Due: 5 p.m. ET 8/29/20.

Docket Numbers: ER13-1266-030; ER10-2611-022; ER10-2984-047; ER11-2044-034; ER11-3876-025; ER15-2211-027; ER18-1419-003.

Applicants: MidAmerican Energy Company, CalEnergy, LLC, Cordova Energy Company LLC, MidAmerican Energy Services, LLC, Saranac Power Partners, L.P., Walnut Ridge Wind, LLC, Merrill Lynch Commodities, Inc.

Description: Northeast Triennial Market Power Analysis of CalEnergy, LLC, et al.

Filed Date: 6/30/20.

Accession Number: 20200630-5451.

Comments Due: 5 p.m. ET 8/29/20.

Docket Numbers: ER13-1641-005; ER15-1045-005; ER16-2226-003 ER16-2227-004.

Applicants: Chestnut Flats Lessee, LLC, Kelly Creek Wind, LLC, McHenry Battery Storage, LLC, Pilot Hill Wind, LLC.

Description: Triennial Market Power Update Filing for the Northeast Region of the EDFR Sellers.

Filed Date: 6/30/20.

Accession Number: 20200630-5467.

Comments Due: 5 p.m. ET 8/29/20.

Docket Numbers: ER14-2102-003.

Applicants: Danskammer Energy, LLC.

Description: Triennial Market Power Update for the Northeast Region of Danskammer Energy, LLC.

Filed Date: 6/30/20.

Accession Number: 20200630-5464.

Comments Due: 5 p.m. ET 8/29/20.

Docket Numbers: ER14-2329-003; ER14-2330-003.

Applicants: Entergy Nuclear Indian Point 3, LLC, Entergy Nuclear Power Marketing, LLC.

Description: Updated Market Power Analysis for the Northeast Region of the Entergy Northeast MBR Utilities.

Filed Date: 6/30/20.

Accession Number: 20200630-5453.

Comments Due: 5 p.m. ET 8/29/20.

Docket Numbers: ER15-103-009.

Applicants: Invenergy Nelson LLC.

Description: Triennial Report of Invenergy Nelson LLC.

Filed Date: 6/30/20.

Accession Number: 20200630-5415.

Comments Due: 5 p.m. ET 8/29/20.

Docket Numbers: ER16-2278-003.

Applicants: Cube Yadkin Generation LLC.

Description: Updated Market Power Analysis for the Southeast Region of Cube Yadkin Generation LLC.

Filed Date: 6/30/20.

Accession Number: 20200630-5421.

Comments Due: 5 p.m. ET 8/29/20.

Docket Numbers: ER17-424-007.

Applicants: Footprint Power Salem Harbor Development LP.

Description: Triennial Compliance Filing of Footprint Power Salem Harbor Development LP.

Filed Date: 6/30/20.

Accession Number: 20200630-5454.

Comments Due: 5 p.m. ET 8/29/20.

Docket Numbers: ER18-140-006.

Applicants: Lackawanna Energy Center LLC.

Description: Triennial Report of Lackawanna Energy Center LLC.

Filed Date: 6/30/20.

Accession Number: 20200630-5420.

Comments Due: 5 p.m. ET 8/29/20.

Docket Numbers: ER18-1906-003; ER10-1532-006; ER10-1541-007; ER10-1642-008; ER10-1767-006; ER13-2349-005; ER13-2350-005; ER16-221-004; ER17-1757-004; ER18-1907-003.

Applicants: Entergy Services, LLC, Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen, LLC.

Description: Notification of Non-Material Change in Status of the Entergy Central MBR Utilities.

Filed Date: 6/30/20.

Accession Number: 20200630-5456.

Comments Due: 5 p.m. ET 7/21/20.

Docket Numbers: ER19-2726-002.

Applicants: Invenergy Wilkinson Solar Holdings LLC.

Description: Triennial Report of Invenergy Wilkinson Solar Holdings LLC.

Filed Date: 6/30/20.

Accession Number: 20200630-5412.

Comments Due: 5 p.m. ET 8/29/20.

Take notice that the Commission received the following electric reliability filings:

Docket Numbers: RR20-5-000.

Applicants: North American Electric Reliability Corporation, Northeast Power Coordinating Council, Inc., ReliabilityFirst Corporation, SERC Reliability Corporation, Western Electric Coordinating Council, Texas Reliability Entity, Inc.

Description: Petition of the North American Electric Reliability Corporation, et al. for approval of the revised Pro Forma Regional Delegation Agreement and revised Regional Entity RDAs.

Filed Date: 6/29/20.

Accession Number: 20200629-5552.

Comments Due: 5 p.m. ET 7/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2020
Nathaniel J. Davis, Sr.,
Deputy Secretary.

[FR Doc. 2020-14686 Filed 7-7-20; 8:45 am]

BILLING CODE 6717-01-P